DEPARTMENT OF AGRICULTURE

Food Safety and Inspection Service

[Docket No. FSIS-2015-0033]

Availability of Updated FSIS Food Standards and Labeling Policy Book

AGENCY: Food Safety and Inspection Service, USDA.

ACTION: Notice of availability and opportunity for comment.

SUMMARY: The Food Safety and Inspection Service (FSIS) is announcing the Agency's intent to revise the Food Standards and Labeling Policy Book. The Agency has stopped adding policy guidance to it; however, FSIS will continue to amend or remove items in the book, as necessary, to remain consistent with Agency policies and regulations. The revised Food Standards and Labeling Policy Book will provide updated information for establishments to use when creating new labels and when modifying existing labels for meat and poultry products.

DATES: Submit comments on or before October 19, 2015.

ADDRESSES: A downloadable version of the Food Standards and Labeling Policy Book is available for viewing and printing at http://www.fsis.usda.gov/wps/portal/fsis/topics/regulatory-compliance/labeling/Labeling-Policies. No hard copies have been published.

FSIS invites interested persons to submit comments on this notice. Comments may be submitted by one of the following methods:

Federal eRulemaking Portal: This Web site provides the ability to type short comments directly into the comment field on this Web page or attach a file for lengthier comments. Go to http://www.regulations.gov/. Follow the on-line instructions at that site for submitting comments.

Mail, including CD-ROMs: Send to Docket Clerk, U.S. Department of Agriculture, Food Safety and Inspection Service, Patriots Plaza 3, 1400 Independence Avenue SW., Mailstop 3782, Room 8-163B, Washington, DC 20250-3700.

Hand- or courier-delivered submittals: Deliver to Patriots Plaza 3, 355 E Street SW., Room 8-163A, Washington, DC 20250-3700.

Instructions: All items submitted by mail or electronic mail must include the Agency name and docket number FSIS-2015-0033. Comments received in response to this docket will be made available for public inspection and posted without change, including any personal information, to http://www.regulations.gov.

Docket: For access to background documents or to comments received, go to the FSIS Docket Room at Patriots Plaza 3, 355 E Street SW., Room 164-A, Washington, DC 20250-3700 between 8:00 a.m. and 4:30 p.m., Monday through Friday.

FOR FURTHER INFORMATION CONTACT: Daniel L. Engeljohn, Ph.D., Assistant Administrator, Office of Policy and Program Development; Telephone: (202) 205-0495, or by Fax: (202) 720-2025.

SUPPLEMENTARY INFORMATION:

Background

FSIS is responsible for ensuring that the Nation's commercial supply of meat and poultry is safe, wholesome, and properly labeled and packaged.

On November 7, 2013, FSIS published the final rule “Prior Label Approval Systems: Generic Label Approval.” This final rule amended the meat and poultry products inspection regulations to expand the circumstances under which labels of meat and poultry products would be deemed to be generically approved by the Agency (78 FR 66826).

Effective January 6, 2014, FSIS regulations (9 CFR 412.1(c)) require only four categories of labels to be submitted to the Labeling and Program Delivery Staff (LPDS) for approval. One category requiring the submission of labels is special statements and claims (9 CFR 412.1(c)(3)), as described in 9 CFR 412.1(e). Under this paragraph, special statements and claims that are defined in FSIS's regulations or in its Food Standards and Labeling Policy Book, except for “natural” and negative claims, and that comply with those regulations and policies, are deemed to be approved by the Agency without being submitted for evaluation and approval.

Comments that FSIS had received in response to the December 5, 2011, proposal (76 FR 75809) that preceded the final rule asked the Agency to update its Food Standards and Labeling Policy Book. In response to these comments, FSIS decided to stop adding new policy guidance to the book but to continue to amend or remove items in the book, as necessary.

FSIS has revised the “Chicken Cordon Bleu” entry in response to a petition submitted to the Agency and removed the entry for “Ham, Smithfield” to ensure consistency with the regulations on the use of geographic terminology on labeling (9 CFR 317.8(b)(1). FSIS announced these changes in its Constituent Update.¹ This calendar year FSIS will revise the “Caddies” entry in the Food Standards and Labeling Policy Book in response to a petition submitted to the Agency to reflect current industry practice. Also, this calendar year, FSIS will update the entry for “Heart Meat” to reflect the regulatory definition for meat in 9 CFR 301.2 and will modify the entry for “Quality Grade Terms and Subjective Terms on Labels” to make it consistent with the Agricultural Marketing Service policy on such terms. FSIS will announce these changes and all other future revisions of the book in the FSIS Constituent Update, which is accessible on the Agency's Web site at: http://www.fsis.usda.gov/wps/portal/fsis/newsroom/meetings/newsletters/constituent-updates/constituent-updates-2015. The Agency will convey new labeling guidance by other means, such as compliance policy guides and will announce them through the Constituent Update or other appropriate means.

¹ See http://www.fsis.usda.gov/wps/portal/fsis/newsroom/meetings/newsletters/constituent-updates/archive/2015/ConstUpdate040315; http://www.fsis.usda.gov/wps/portal/fsis/newsroom/meetings/newsletters/constituent-updates/archive/2015/ConstUpdate050115.

USDA Nondiscrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail

U.S. Department of Agriculture, Director, Office of Adjudication, 1400 Independence Avenue SW., Washington, DC 20250-9410.

Fax

(202) 690-7442.

Email

program.intake@usda.gov.

Persons with disabilities who require alternative means for communication (Braille, large print, audiotape, etc.) should contact USDA's TARGET Center at (202) 720-2600 (voice and TDD).

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password-protect their accounts.

Done at Washington, DC on: August 12, 2015.
Alfred V. Almanza,
Acting Administrator.

[FR Doc. 2015-20435 Filed 8-18-15; 8:45 am]

BILLING CODE 3410-DM-P